DEPARTMENT OF COMMERCE

National Oceanic and Atmospheric Administration

[I.D. 070302A]

Marine Mammals; File No. 42-1642

AGENCY: National Marine Fisheries Service (NMFS), National Oceanic and Atmospheric Administration (NOAA), Commerce.

ACTION: Receipt of application for amendment.

SUMMARY: Notice is hereby given that Mystic Aquarium, 55 Coogan Blvd., Mystic, CT 06355 (Dr. Lisa Mazarro, Principal Investigator) has requested an amendment to scientific research Permit No. 42-1642.

DATES: Written or telefaxed comments must be received on or before August 12, 2002.

ADDRESSES: The amendment request and related documents are available for review upon written request or by appointment in the following office(s):

Permits, Conservation and Education Division, Office of Protected Resources, NMFS, 1315 East-West Highway, Room 13705, Silver Spring, MD 20910; phone (301)713-2289; fax (301)713-0376; and

Northeast Region, NMFS, One Blackburn Drive, Gloucester, MA01930-2298; phone (978)281-9200; fax (978)281-9371.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)713-0376, provided the facsimile is confirmed by hard copy submitted by mail and postmarked no later than the closing date of the comment period. Please note that comments will not be accepted by e-mail or other electronic media.

FOR FURTHER INFORMATION CONTACT: Tammy Adams or Amy Sloan, (301)713-2289.

SUPPLEMENTARY INFORMATION: The subject amendment to Permit No. 42-1642, issued on October 15, 2001 (66 FR 53403) is requested under the authority of the Marine Mammal Protection Act of 1972, as amended (16 U.S.C. 1361 et seq.), the Regulations Governing the Taking and Importing of Marine Mammals (50 CFR part 216), the Endangered Species Act of 1973, as amended (16 U.S.C. 1531 et seq.), and the regulations governing the taking, importing, and exporting of endangered and threatened species (50 CFR 222-226).

Permit No. 42-1642 authorizes the permit holder to: study metabolic clearance rates of vitamins A and E using isotope tracers and vitamin analogs in captive Steller sea lions (Eumetopias jubatus) in relation to various life history stages; establish the vitamin A and E status of free-ranging Steller sea lions; determine the metabolic requirements for these vitamins by relating intake to blood levels in captive specimens; and receive or import serum and milk samples from captive marine mammals held in facilities within the United States and abroad to study the disease hemochromatosis (an excessive accumulation of iron in tissues often associated with hepatic lesions) as well as others associated with general marine mammal health. The permit holder requests authorization to import one male Steller sea lion from the Vancouver Aquarium, Vancouver, Canada for breeding with female Steller sea lions currently held by Mystic Aquarium in support of their study of changes in vitamin A and E status in relation to various life history stages in captive Steller sea lions.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: July 3, 2002.
Trevor R. Spradlin,
Acting Chief, Permits, Conservation and Education Division, Office of Protected Resources, National Marine Fisheries Service.

[FR Doc. 02-17462 Filed 7-10-02; 8:45 am]

BILLING CODE 3510-22-S